DEPARTMENT OF THE TREASURY

Office of the Comptroller of the Treasury

12 CFR Part 3

[Docket No. 03-24]

RIN 1557-AB97

Rules, Policies, and Procedures for Corporate Activities; Bank Activities and Operations; Real Estate Lending and Appraisals

AGENCY: Office of the Comptroller of the Currency (OCC), Treasury.

ACTION: Final rule; technical correction.

SUMMARY: The OCC published in the Federal Register of December 17, 2003 (68 FR 70122), a final rule implementing authority provided to national banks by sections 1204, 1205, and 1206 of the American Homeownership and Economic Opportunity Act of 2000 (AHEOA). This document makes technical corrections to that final rule.

EFFECTIVE DATE: January 16, 2004.

FOR FURTHER INFORMATION CONTACT: Andra Shuster, Counsel, Legislative and Regulatory Activities Division, (202) 874-5090.

SUPPLEMENTARY INFORMATION: In FR Doc. 03-31093, published on December 17, 2003 (68 FR 70131), make the following corrections:

Appendix A to Part 3 [Corrected]

1. On page 70128, in the third column, instruction 2.b. is revised to read as follows:

b. In section 4, amend paragraph (a)(11)(ii) by removing “section 4(a)(8)(i) and (ii)” and adding in its place “section 4(a)(9)(i) and (ii).”

Dated: December 17, 2003.
Julie L. Williams,
First Senior Deputy Comptroller and Chief Counsel.

[FR Doc. 03-31651 Filed 12-23-03; 8:45 am]

BILLING CODE 4810-33-M